DEPARTMENT OF COMMERCE

International Trade Administration

[C-580-837]

Final Results of Expedited Sunset Review of the Countervailing Duty Order: Certain Cut-To-Length Carbon-Quality Steel Plate From Korea

AGENCY: Import Administration, International Trade Administration, Department of Commerce.

SUMMARY: On January 3, 2005, the Department of Commerce (“the Department”') initiated a sunset review of the countervailing duty (“CVD”) order on certain cut-to-length carbon-quality steel plate from Korea pursuant to section 751(c) of the Tariff Act of 1930, as amended (“the Act”'). See Initiation of Five-year (“Sunset”) Reviews, 70 FR 75 (January 3, 2005). On the basis of a notice of intent to participate and an adequate substantive response filed on behalf of the domestic interested parties, as well as inadequate response from respondent interested parties, the Department conducted an expedited sunset review pursuant to section 751(c)(3)(B) of the Act and 19 CFR 351.218(e)(1)(ii)(B). As a result of this sunset review, the Department finds that revocation of the CVD order would be likely to lead to continuation or recurrence of countervailable subsidies at the levels indicated in the “Final Results of Review” section of this notice.

EFFECTIVE DATE: August 8, 2005.

FOR FURTHER INFORMATION CONTACT: Tipten Troidl or David Goldberger, AD/CVD Operations, Office 3, Import Administration, U.S. Department of Commerce, 14th Street & Constitution Avenue NW, Washington, DC 20230; telephone: 202-482-1767 or 202-482-4136, respectively.

SUPPLEMENTARY INFORMATION:

Background

On January 3, 2005, the Department initiated a sunset review of the countervailing duty order on certain cut-to-length carbon-quality steel plate from Korea pursuant to section 751(c) of the Act. See Initiation of Five-year (“Sunset”) Reviews, 70 FR 75 (January 3, 2005). On January 6, 2005, the Department received a notice of intent to participate on behalf of Nucor Corporation (“Nucor”), and on January 14, 2005, we received a notice of intent to participate on behalf of International Steel Group Inc. (“ISG”), within the deadline specified in 19 CFR 351.218(d)(1)(i). On January 19, 2005, the Department received requests for a one-day extension of the deadline and notices of intent to participate on behalf of United States Steel Corporation (“U.S. Steel”) and IPSCO Steel Inc. (“IPSCO”). Due to circumstances beyond their control, IPSCO and U.S. Steel were prevented from delivering and filing their notice of intent to participate with the Department within the 15-day deadline. Therefore, the Department determined it appropriate to grant their extension request. Each of the domestic interested parties claimed interested party status under section 771(9)(C) of the Act as domestic producers of a domestic like product. The Department received a complete substantive response on behalf of ISG,¹ IPSCO and Nucor (collectively, “domestic interested parties”) within the 30-day deadline specified in 19 CFR 351.218(d)(3)(i). The Department did not receive a substantive response from any respondent interested parties. As a result, pursuant to section 751(c)(3)(B) of the Act and 19 CFR 351.218(e)(1)(ii)(C)(2), the Department conducted an expedited sunset review of this CVD order.

¹ On April 20, and May 6, 2005, ISG notified the Department that as a result of a name change, ISG's official name is now Mittal Steel USA ISG Inc.

The Department determined, pursuant to section 751(c)(5)©) of the Act, that the sunset review of the CVD order on certain cut-to-length carbon-quality steel plate from Korea is extraordinarily complicated. Therefore, on April 25, 2005, the Department extended the time limit for completion of the final results of this review until not later than August 1, 2005.²

² See Certain Cut-To-Length Carbon-Quality Steel Plate from France, India, Indonesia, Italy, Japan and Korea; Extension of Final Results of the Expedited Sunset Reviews of the Antidumping and Countervailing Duty Orders, 70 FR 22843 (May 3, 2005).

Scope of the Order

The merchandises covered by the CVD order is certain hot-rolled carbon-quality steel: (1) Universal mill plates (i.e., flat- rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils). Steel products to be included in the scope of this order are of rectangular, square, circular or other shape and of rectangular or non-rectangular cross-section where such non-rectangular cross-section is achieved subsequent to the rolling process (i.e., products which have been “worked after rolling”)--for example, products which have been beveled or rounded at the edges. Steel products that meet the noted physical characteristics that are painted, varnished or coated with plastic or other non-metallic substances are included within this scope. Also, specifically included in the scope of this order are high strength, low alloy (“HSLA”) steels. HSLA steels are recognized as steels with micro-alloying levels of elements such as chromium, copper, niobium, titanium, vanadium, and molybdenum. Steel products to be included in this scope, regardless of Harmonized Tariff Schedule of the United States (“HTSUS”) definitions, are products in which: (1) Iron predominates, by weight, over each of the other contained elements; (2) the carbon content is two percent or less, by weight; and (3) none of the elements listed below is equal to or exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.41 percent of titanium, or 0.15 percent of vanadium, or 0.15 percent zirconium. All products that meet the written physical description, and in which the chemistry quantities do not equal or exceed any one of the levels listed above, are within the scope of this order unless otherwise specifically excluded. The following products are specifically excluded from this order: (1) Products clad, plated, or coated with metal, whether or not painted, varnished or coated with plastic or other non- metallic substances; (2) SAE grades (formerly AISI grades) of series 2300 and above; (3) products made to ASTM A710 and A736 or their proprietary equivalents; (4) abrasion-resistant steels (i.e., USS AR 400, USS AR 500); (5) products made to ASTM A202, A225, A514 grade S, A517 grade S, or their proprietary equivalents; (6) ball bearing steels; (7) tool steels; and (8) silicon manganese steel or silicon electric steel. The merchandise subject to this order is currently classifiable in the HTSUS under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000. Although the HTSUS subheadings are provided for convenience and customs purposes, the written description of the merchandise covered by this order is dispositive.

Analysis of Comments Received

All issues raised in this review are addressed in the “Issues and Decision Memorandum” (“Decision Memorandum”) from Barbara E. Tillman, Acting Deputy Assistant Secretary for Import Administration to Joseph A. Spetrini, Acting Assistant Secretary for Import Administration, dated August 1, 2005, which is hereby adopted by this notice. Parties can find a complete discussion of all issues raised in this review and the corresponding recommendation in this public memorandum which is on file in the Central Records Unit, room B-099 of the main Commerce building. In addition, a complete version of the Decision Memorandum can be accessed directly on the Web at http://ia.ita.doc.gov/frn. The paper copy and electronic version of the Decision Memorandum are identical in content.

Final Results of Review

The Department determines that revocation of the CVD order on certain cut-to-length carbon-quality steel plate from Korea would be likely to lead to continuation or recurrence of a countervailable subsidy at the rate listed below:

Manufacturer/exporters | Net Countervailable Subsidy (percent)
Dongkuk Steel Mill, Ltd. | 2.36
All others³ | 2.36
³ Pohang Iron & Steel Co., Ltd. (“POSCO”) was excluded from the order on the basis of a de minimis net subsidy rate of 0.82 percent. See Notice of Amended Final Determinations: Certain Cut-to-Length Carbon-Quality Steel Plated From India and the Republic of Korea; and Notice of Countervailing Duty Orders: Certain Cut-to-Length Carbon-Quality Steel Plate From France, India, Indonesia, Italy, and the Republic of Korea, 65 FR 6587 (February 10, 2000).

Notification Regarding Administrative Protective Order:

This notice also serves as the only reminder to parties subject to administrative protective order (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice are in accordance with sections 751(c), 752, and 777(i)(1) of the Act.

Dated: August 1, 2005.
Joseph A. Spetrini,
Acting Assistant Secretary for Import Administration.

[FR Doc. E5-4253 Filed 8-5-05; 8:45 am]

BILLING CODE 3510-DS-S